DEPARTMENT OF THE INTERIOR

National Park Service

[NPS-NER-HPPC-10580; 4350-HAMP-409]

Record of Decision for the General Management Plan/Final Environmental Impact Statement, Hampton National Historic Site, Maryland

AGENCY: National Park Service, Interior.

ACTION: Notice of availability.

SUMMARY: Pursuant to 102 (2)(c) of the National Environmental Policy Act of 1969 (NEPA), the National Park Service (NPS) announces the availability of the Record of Decision for the Final General Management Plan and Environmental Impact Statement (GMP/EIS), Hampton National Historic Site, Maryland. As soon as practicable, the NPS will begin to implement the preferred alternative as contained in the Final GMP/EIS issued by the NPS on March 23, 2012, and summarized in the Record of Decision. Copies of the Record of Decision may be obtained from the contact listed below or online at the park's Web site (http://www.nps.gov/hamp) or the NPS Planning, Environment, and Public Comment (PEPC) Web site (http://parkplanning.nps.gov/hamp).

FOR FURTHER INFORMATION CONTACT: Tina Orcutt, Superintendent, Hampton National Historic Site, 535 Hampton Road, Towson, Maryland 21286-1397, telephone (410) 823-1309 ext. 101.

SUPPLEMENTARY INFORMATION: On April 23, 2012, the Regional Director of the NPS's Northeast Region signed the Record of Decision selecting Alternative 3 as the approved General Management Plan (GMP) for Hampton National Historic Site (NHS). The Record of Decision includes a statement of the decision made, synopses of other alternatives considered, the basis for the decision, a description of the environmentally preferable alternative, a finding on impairment of park resources and values, a listing of measures to minimize environmental harm, and an overview of public involvement in the decision-making process.

The selected alternative, Alternative 3—Broadening the Hampton Experience, was identified as the agency's preferred alternative in the Final GMP/EIS. Under this alternative, the visitor experience will be expanded to include the entire story of the park, from its beginnings in the 18th century to its heyday in the 19th century, and through the changes of activity and ownership in the 20th century. It will broaden the stories to include all those who lived and worked at the mansion, the plantations, and related Ridgely family enterprises. It will provide visitor services and accommodate park operations within the historic and modern buildings existing on the property, including a new collections storage building and a small visitor contact building in the Support Zone on the mansion side of the property.

Modern and historic buildings will be rehabilitated to provide for visitor services—orientation, group programming, restrooms and bookstore—along with limited storage, and administrative and partnership offices, all within walking distance of the mansion. While this approach could disperse interpretation and administrative functions throughout the park, every effort will be made to group these operational functions near one another to enhance the `campus feeling,' encourage organizational efficiency, and minimize their intrusion into the historic scene.

The modular buildings currently housing administrative and partner offices will be removed. One critical feature missing from the landscape and essential to the visitor experience, the corn crib, will be reconstructed, if Department of the Interior/NPS documentation needs are met in accordance with the Secretary of the Interior's Standards for the Treatment of Historic Properties, and used for interpretation on the farm side. Relocation of the modern entrance drive on the mansion side and changes to the access road to the farm will provide safer access to new visitor orientation areas on both sides of Hampton Lane.

Exhibits, media, programs, and scholarship will reflect the breadth of lives and events experienced by all of Hampton's residents and workers, free and enslaved, and will connect those stories with visitors' lives today. Park boundaries will remain unchanged, although minor adjustments will be considered through donation and willing seller acquisitions.

The NPS selected Alternative 3 because it best fulfills the purposes of the park and conveys the greatest number of beneficial results in comparison with the other alternatives. The selected alternative will expand the visitor experience to include the entire story of the park and would broaden the stories to include all those who lived and worked at the estate. It will provide visitor services and accommodate park operations, including group activities and tours, while preserving park resources. Partnerships will enhance relevance of the park to local visitors and better enable the NPS to respond to concerns of local residents, preservation organizations, academics, and the general public about how the park is managed. Overall, the selected alternative provides the highest degree of protection of the park's natural and cultural resources and it provides the most exceptional opportunities for visitors. In addition, the selected alternative offers the best value balancing costs against improvements to preservation and visitor services.

This planning process was initiated in 1998 and included extensive involvement with key stakeholders, agencies, resource experts, and members of the public. Information was disseminated through newsletters and press releases, and all interested parties were provided with opportunities to provide input and feedback during public meetings, workshops, and document review periods. The Draft GMP/EIS was available for public and agency review from October 11, 2010, through December 24, 2010, with three public open houses were held in November 2010. The Final GMP/EIS responded to, and incorporated, agency and public comments received on the Draft GMP/EIS. No changes were made to the alternatives or to the impact analysis presented in the Draft GMP/EIS; therefore, Alternative 3 remained the NPS Preferred Alternative and the environmentally preferred alternative in the Final GMP/EIS.

Dated: August 1, 2012.
Michael A. Caldwell,
Acting Regional Director, Northeast Region, National Park Service.

[FR Doc. 2012-21955 Filed 9-5-12; 8:45 am]

BILLING CODE 4312-56-P